ENVIRONMENTAL PROTECTION AGENCY

40 CFR Part 52

[EPA-R05-OAR-2014-0385; FRL-9928-57-Region 5]

Approval and Promulgation of Air Quality Implementation Plans; Ohio; Ohio PM2.5 NSR

AGENCY: Environmental Protection Agency (EPA)

ACTION: Direct final rule.

SUMMARY: The Environmental Protection Agency (EPA) is approving, under the Clean Air Act (CAA), revisions to Ohio's state implementation plan (SIP) as requested by the Ohio Environmental Protection Agency (OEPA) on June 19, 2014. The revisions to Ohio's SIP implement certain EPA regulations for particulate matter smaller than 2.5 micrometers (PM2.5) by establishing definitions related to PM2.5, defining PM2.5 increment levels, and setting PM2.5 class 1 variances. The revisions also incorporate changes made to definitions clarifying terminology consistent with Federal regulations, adding Federal land manager notification requirements, and incorporating minor organizational or typographical changes.

DATES: This direct final rule will be effective August 24, 2015, unless EPA receives adverse comments by July 27, 2015. If adverse comments are received, EPA will publish a timely withdrawal of the direct final rule in the Federal Register informing the public that the rule will not take effect.

ADDRESSES: Submit your comments, identified by Docket ID No. EPA-R05-OAR-2014-0385, by one of the following methods:

1. www.regulations.gov: Follow the on-line instructions for submitting comments.

2. Email: damico.genevieve@epa.gov.

3. Fax: (312) 385-5501.

4. Mail: Genevieve Damico, Chief, Air Permits Section, Air Programs Branch (AR-18J), U.S. Environmental Protection Agency, 77 West Jackson Boulevard, Chicago, Illinois 60604.

5. Hand Delivery: Genevieve Damico, Chief, Air Permits Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m., excluding Federal holidays.

Instructions: Direct your comments to Docket ID No. EPA-R05-OAR-2014-0385. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Charmagne Ackerman, Environmental Engineer, at (312) 886-0448 before visiting the Region 5 office.

FOR FURTHER INFORMATION CONTACT: Charmagne Ackerman, Environmental Engineer, Air Permits Section, Air Programs Branch (AR-18J), Environmental Protection Agency, Region 5, 77 West Jackson Boulevard, Chicago, Illinois 60604, (312) 886-0448, Ackerman.charmagne@epa.gov.

SUPPLEMENTARY INFORMATION: Throughout this document whenever “we,” “us,” or “our” is used, we mean EPA. This supplementary information section is arranged as follows:

I. Background

II. What action is EPA taking?

III. Incorporation by Reference

IV. Statutory and Executive Order Reviews

I. Background

On June 19, 2014, OEPA submitted to EPA revisions to Ohio Administrative Code (OAC) chapter 3745-31. Revisions were made to the following rules: 3745-31-01 through 3745-31-04, OAC 3745-31-06 through 3745-31-23, 3745-31-25, 3745-31-26, 3745-31-29 and 3745-31-32. The changes made were to implement the PM2.5 National Ambient Air Quality Standards (NAAQS), PM2.5 New Source Review (NSR) program and regulations related to nitrogen oxides (NOX) as a precursor to ozone; include definitions for “PM2.5,” “PM2.5 direct emissions,” “PM2.5 emissions,” “PM2.5 precursor,” “emergency,” “emergency engine,” “permanent,” “publicly owned treatment works,” “quantifiable,” “semi-public disposal system,” and “surplus”; include Federal land manager notification requirements; clarification of nonattainment provisions; and minor clarification and organizational revisions. In a letter dated March 26, 2015, OEPA requested that we not take action on OAC 3745-31-01(QQQQ) for the definition of “permanent”; OAC 3745-31-01(JJJJJ) for the definition of “quantifiable”; OAC 3745-31-01(BBBBBB) for the definition of “surplus”; OAC 3745-31-22(A)(3)(b) and OAC 3745-31-26(D) regarding PM2.5 interpollutant offset ratios; OAC 3745-31-24(F)(1)(a) and OAC 3745-31-27(A)(1)(b) regarding the establishment of offset emission reductions.

II. What action is EPA taking?

EPA is partially approving the SIP revision submittal. EPA previously approved a portion of the submittal, 79 FR 64119 (October 28, 2014), and is approving the remainder of the submittal, with the exceptions detailed in Ohio's March 26, 2015, and April 17, 2015, letters, in this action. Ohio's SIP revisions comply with regulations EPA enacted to address the PM2.5 NAAQS. These revisions implement the NSR and prevention of significant deterioration (PSD) program, as required by EPA's regulations. The revisions also implement minor clarification and organizational revisions not directly related to PM2.5.

EPA is approving the following rules: portions of OAC 3745-31-01; OAC 3745-31-02; OAC 3745-31-04; OAC 3745-31-06; OAC 3745-31-07; OAC 3745-31-08; OAC 3745-31-09; OAC 3745-31-10; OAC 3745-31-11; OAC 3745-31-12; OAC 3745-31-14; OAC 3745-31-15; OAC 3745-31-17; OAC 3745-31-18; OAC 3745-31-19; OAC 3745-31-20; OAC 3745-31-21; OAC 3745-31-22, except for paragraph (A)(3)(b); OAC 3745-31-23, excluding the 1-hour NO2 SIL; OAC 3745-31-24, except for paragraph (F); OAC 3745-31-25; OAC 3745-31-26, except for paragraph (D); OAC 3745-31-27, except for paragraph (A)(1)(b); OAC 3745-31-29; and OAC 3745-31-32.

A. Nonattainment NSR Related Actions

On April 25, 2007, EPA published the “Clean Air Fine Particle Implementation Rule” (72 FR 20586) as a final rule in the Federal Register. This 2007 action provides rules and guidance for the CAA requirements for SIPs to implement the 1997 fine particle NAAQS. As part of this rulemaking, EPA promulgated 40 CFR part 51, subpart Z “Provisions for Implementation of PM2.5 National Ambient Air Quality Standards”. 40 CFR part 51, subpart Z outlines the requirements that a state SIP must meet to implement and comply with the PM2.5 NAAQS. The final rule became effective on May 29, 2007.

On May 16, 2008, EPA published the “Implementation of the New Source Review (NSR) Program for Particulate Matter Less than 2.5 Micrometers (PM2.5)” (73 FR 28321) as a final rule in the Federal Register. These 2008 regulations establish the PM2.5 NSR program. The PM2.5 NSR program includes provisions establishing the PM2.5 major source threshold, significant emissions rate, and applicability of NSR to PM2.5 precursors. This final rule became effective on July 15, 2008.

OEPA's revision to 3745-31-19 updates the table for Class I variances. The update includes adding an arithmetic mean of 4 micrograms per cubic meter (μg/m³) and a twenty-four-hour maximum of 9 μg/m³ for PM2.5. The revision also updates the twenty-four-hour maximum for PM10 from 20 μg/m³ to 30 μg/m³. These revisions are consistent with 40 CFR 52.21(p)(5).

On December 31, 2002, EPA published final rule changes to the PSD and NSR programs (67 FR 80186) (2002 NSR Reform Rules), and on November 7, 2003, EPA published a notice of final action on the reconsideration of the December 31, 2002, final rule changes (68 FR 63021). After the 2002 NSR Reform Rules were finalized and effective (March 3, 2003), various petitioners challenged various aspects of the rules, along with portions of EPA's 1980 PSD and NNSR Rules (45 FR 5276, August 7, 1980). On June 24, 2005, the United States Circuit Court of Appeals for the DC Circuit Court issued a decision on the challenges to the 2002 NSR Reform Rules. See New York v. United States, 413 F.3d 3 (D.C. Cir. 2005). In summary, the DC Circuit Court vacated portions of the 2002 NSR Reform Rules pertaining to “clean units” and “pollution control projects” (PCPs), remanded a portion of the “reasonable possibility” provisions (40 CFR 52.21(r)(6) and 40 CFR 51.166(r)(6)), and either upheld or did not comment on the other provisions included as part of the 2002 NSR Reform Rules. On June 13, 2007 (72 FR 32526), EPA took final action to revise the 2002 NSR Reform Rules to remove from Federal law all provisions pertaining to clean units and the PCP exemption that were vacated by the DC Circuit Court.

Additionally, in New York v. United States, the DC Circuit remanded EPA's “reasonable possibility” provision, which identifies for sources and reviewing authorities the circumstances under which a major stationary source undergoing a modification that does not trigger major NSR must keep records. On December 21, 2007, EPA addressed the Court's remand, and took final action to establish that a “reasonable possibility” applies where source emissions equal or exceed 50 percent of the CAA NSR significance levels for any pollutant (72 FR 72607). See 40 CFR 52.21(r)(b).

OEPA's revision to 3745-31-22 consists of the inclusion of PM2.5 interprecursor offsetting into paragraph (A)(3)(b), the removal of paragraphs (A)(3)(e) and (A)(3)(f), and the addition paragraph (A)(5) relating to reasonable further progress. The March 26, 2015, clarification letter submitted by OEPA withdraws paragraph (A)(3)(b) from the submittal. The removal of paragraphs (A)(3)(e) and (f) are consistent with the 2002 NSR Reform Rules.

OEPA's revision to 3745-31-23 updates the table of significance levels in paragraph (A) of this rule by adding PM2.5 values of 0.3 μg/m³ as the annual significance level and 1.2 μg/m³ as the significance level with a 24-hour averaging time. PM2.5 has also been added to list of pollutants for which an air quality impact must be determined in paragraph (C)(1) of this rule. OEPA has also updated the table to remove total suspended particulate and its significance values. The value for NOX with a one-hour averaging time was also added as 10 μg/m³. OEPA sent a clarification letter on March 26, 2015, which excludes the one-hour NOX significance level from inclusion into the SIP. The changes made to this rule are consistent with 40 CFR 51.165(b)(2).

OEPA's revision to 3745-31-24 include changes to paragraph (B), baseline for determining credit for emission offsets, and paragraph (F),operating hours and stationary source shut down. OEPA's March 26, 2015 and April 17, 2015, clarification letters withdraw the revisions from 3745-31-24(F) from inclusion from the SIP. The changes made to 3745-31-24(B) are consistent with the language in 40 CFR 56.165(a)(3).

OEPA's revision to 3745-31-25, location of offsetting emissions for nonattainment areas, incorporates the conditions listed in 40 CFR part 51, appendix S, section IV.D. OEPA's revision to 3745-31-26 adds offset ratio requirement for nonattainment areas. The revisions are consistent with language in 40 CFR part 51, appendix S. OEPA's March 26, 2015, letter withdraws 3745-31-26 (D) from the SIP submission.

OEPA's revision to 3745-31-27 made clarifications to the rule regarding administrative procedures for emission offsets. OEPA's March 26, 2015, and April 17, 2015, clarification letters withdraw paragraph (A)(1)(b) from the SIP submission. The remainder of the revisions to 3745-31-27 are minor and do not change the meaning of the existing language and are therefore approvable.

B. Definitions

OEPA has submitted the following definitions to be added to OAC 3745-31-01: “emergency” at 3745-31-01(MM); “emergency engine” at 3745-31-01(NN); “publicly owned treatment works” at 3745-31-01(IIIII); “semi-public disposal system” at 3745-31-01(TTTTT); and “truck” at 3745-31-01(GGGGGG). OEPA's March 26, 2015, letter provided additional clarification on the definitions for “emergency” and “publicly owned treatment works,” and withdrew the definitions “permanent” at 3745-31-01 (QQQQ), “quantifiable” at 3745-31-01(JJJJJ) and “surplus” at 3745-31-01(BBBBBB) from the SIP submission. OEPA's intent with including a definition of “emergency” in OAC Chapter 31 was to clearly define situations in which an emergency internal combustion engine could operate under the permit exemption and permit-by-rule found in OAC rule 3745-31-03. OEPA used examples consistent with those used in 40 CFR part 60, subpart IIII, the standards of performance for new stationary compression ignition internal combustion engines, 40 CFR part 60, subpart JJJJ, the standards of performance for new stationary spark ignition internal combustion engines, and 40 CFR part 63, subpart ZZZZ, the National Emission Standards for Hazardous Air Pollutants for Reciprocating Internal Combustion Engines. OEPA further explained that this definition for “emergency” found in OAC rule 3745-31-01 is only applicable to the permit exemption found in OAC paragraph 3745-31-03(A)(1)(nn) and the permit-by-rule found in OAC paragraph 3745-31-03(A)(4)(b). OEPA believes that the definition of “emergency” in Chapter 31 does not relate to, interfere with or revise the 40 CFR part 70 definition of “emergency”. Given OEPA's clarification on the intended application of “emergency” and its distinction between Chapter 31 and 40 CFR part 70, EPA approves the definition of “emergency” into the SIP.

Regarding the definition for “publicly owned treatment works,” OEPA is planning to add a new exemption to OAC rule 3745-31-03 that references the term “semi-public disposal system.” Because rule 3745-31-01 was being revised ahead of the changes to the 3745-31-03 rule, OEPA decided to include the new exemption into 31-01 so that additional rulemaking would not be needed later. The new definition will be used only if and when the new exemption becomes effective.

The definitions for “emergency engine,” “semi-public disposal system,” and “truck” are all consistent with the definitions in Federal regulations.

C. Organizational and Typographical Changes

In addition to the substantive revisions made to the rules being approved, OEPA made organizational changes to lettering or numbering of paragraphs as well as corrections to typographical errors. EPA is also approving these revisions as they do not change the meaning of the existing language.

We are publishing this action without prior proposal because we view this as a noncontroversial amendment and anticipate no adverse comments. However, in the proposed rules section of this Federal Register publication, we are publishing a separate document that will serve as the proposal to approve the state plan if relevant adverse written comments are filed. This rule will be effective August 24, 2015 without further notice unless we receive relevant adverse written comments by July 27, 2015. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective August 24, 2015.

III. Incorporation by Reference

In this rule, EPA is finalizing regulatory text that includes incorporation by reference. In accordance with requirements of 1 CFR 51.5, EPA is finalizing the incorporation by reference of the Ohio Regulations described in the amendments to 40 CFR part 52 set forth below. EPA has made, and will continue to make, these documents generally available electronically through www.regulations.gov and/or in hard copy at the appropriate EPA office (see the ADDRESSES section of this preamble for more information).

IV. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by August 24, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: May 19, 2015.
Susan Hedman,
Regional Administrator, Region 5.

40 CFR part 52 is amended as follows:

PART 52—APPROVAL AND PROMULGATION OF IMPLEMENTATION PLANS

1. The authority citation for part 52 continues to read as follows:

Authority: 42 U.S.C. 7401 et seq.

2. Section 52.1870 is amended by adding paragraph (c)(162) to read as follows:

§ 52.1870 Identification of plan.

* * * * *

(c) * * *

(162) On June 19, 2014, the Ohio Environmental Protection Agency submitted several PM2.5 rules for approval into the Ohio State Implementation Plan (SIP). The changes to the SIP include revisions related to particulate matter smaller than 2.5 micrometers (PM2.5) defining a significance level for PM2.5 for nonattainment areas, baseline for determining credit for emission offsets, location of offsetting emissions in nonattainment areas, and offset requirements. The revisions also include establishing definitions for emergency, emergency engine, publicly owned treatment works, and semi-public disposal system and incorporating minor organizational or typographical changes.

(i) Incorporation by reference.

(A) Ohio Administrative Code Rule 3745-31-01, “Definitions”, paragraphs (L) through (N), (Q), (U), (II), (MM) through (KKK), (OOO), (PPP), (RRR), (TTT) through (PPPP), (RRRR), (SSSS), (XXXX) through (IIIII), (KKKKK) through (MMMMM), (OOOOO) through (UUUUU), (WWWWW) through (AAAAAA), (CCCCCC) through (LLLLLL), effective May 29, 2014.

(B) Ohio Administrative Code Rule 3745-31-02, “Applicability, requirements and obligations”, effective May 29, 2014.

(C) Ohio Administrative Code Rule 3745-31-04, “Applications”, effective May 29, 2014.

(D) Ohio Administrative Code Rule 3745-31-06, “Completeness determinations, processing requirements, public participation, public notice, and issuance”, effective May 29, 2014.

(E) Ohio Administrative Code Rule 3745-31-07, “Termination, revocation, expiration, renewal, revision and transfer”, effective May 29, 2014.

(F) Ohio Administrative Code Rule 3745-31-08, “Registration status permit-to-operate”, effective May 29, 2014.

(G) Ohio Administrative Code Rule 3745-31-09, “Variances on operation”, effective May 29, 2014.

(H) Ohio Administrative Code Rule 3745-31-10, “NSR projects at existing emission units at a major stationary source”, effective May 29, 2014.

(I) Ohio Administrative Code Rule 3745-31-11, “Attainment provisions—ambient air increments, ceilings and classifications”, effective May 29, 2014.

(J) Ohio Administrative Code Rule 3745-31-12, “Attainment provisions—data submission requirements”, effective May 29, 2014.

(K) Ohio Administrative Code Rule 3745-31-14, “Attainment provisions—preapplication analysis”, effective May 29, 2014.

(L) Ohio Administrative Code Rule 3745-31-15, “Attainment provisions—control technology review”, effective May 29, 2014.

(M) Ohio Administrative Code Rule 3745-31-17, “Attainment provisions—additional impact analysis”, effective May 29, 2014.

(N) Ohio Administrative Code Rule 3745-31-18, “Attainment provisions—air quality models”, effective May 29, 2014.

(O) Ohio Administrative Code Rule 3745-31-19, “Attainment provisions—notice to the United States environmental protection agency”, effective May 29, 2014.

(P) Ohio Administrative Code Rule 3745-31-20, “Attainment provisions—innovative control technology”, effective May 29, 2014.

(Q) Ohio Administrative Code Rule 3745-31-21, “Nonattainment provisions—review of major stationary sources and major modifications—stationary source applicability and exemptions”, effective May 29, 2014.

(R) Ohio Administrative Code Rule 3745-31-22, “Nonattainment provisions—conditions for approval”, except for paragraph (A)(3)(b), effective May 29, 2014.

(S) Ohio Administrative Code Rule 3745-31-23, “Nonattainment provisions—stationary sources locating in designated clean or unclassifiable areas which would cause or contribute to a violation of a national ambient air quality standard” with exclusion of the 1-hour NO2 Significant Impact Level described in table in paragraph (A), effective May 29, 2014.

(T) Ohio Administrative Code Rule 3745-31-24, “Nonattainment provisions—baseline for determining credit for emission and air quality offsets”, except for paragraph (F), effective May 29, 2014.

(U) Ohio Administrative Code Rule 3745-31-25, “Nonattainment provisions—location of offsetting emissions”, effective May 29, 2014.

(V) Ohio Administrative Code Rule 3745-31-26, “Nonattainment provisions—offset ratio requirements”, except for paragraph (D), effective May 29, 2014.

(W) Ohio Administrative Code Rule 3745-31-27, “Nonattainment provisions—administrative procedures for emission offsets”, except for paragraph (A)(1)(b), effective May 29, 2014.

(X) Ohio Administrative Code Rule 3745-31-29, “General permit-to-install and general PTIO”, effective May 29, 2014.

(Y) Ohio Administrative Code Rule 3745-31-32, “Plantwide applicability limit (PAL)”, effective May 29, 2014.

(Z) May 19, 2014, “Director's Final Findings and Orders”, signed by Craig W. Butler, Director, Ohio Environmental Protection Agency.

[FR Doc. 2015-15554 Filed 6-24-15; 8:45 am]

BILLING CODE 6560-50-P